OFFICE OF PERSONNEL MANAGEMENT

5 CFR Part 724

RIN 3206-AJ93

Implementation of Title II of the Notification and Federal Employee Antidiscrimination and Retaliation Act of 2002

AGENCY: Office of Personnel Management.

ACTION: Interim final rule; extension of comment period.

SUMMARY: On January 22, 2004, the Office of Personnel Management (OPM) issued implementing rules regarding the reimbursement provisions of Title II of the No FEAR Act (69 FR 2997). The interim final rule contained a 60-day comment period. Upon further consideration, OPM has decided to extend the initial comment period until April 26, 2004.

DATES: The interim final rule is effective October 1, 2003. Comments must be received on or before April 26, 2004.

ADDRESSES: Send or deliver written comments to Jeffrey E. Sumberg, Deputy Associate Director for Workforce Relations and Accountability Policy, Office of Personnel Management, Room 7H28, 1900 E Street, NW., Washington, DC 20415; by fax at (202) 606-0967; or by e-mail at NoFEAR@opm.gov.

FOR FURTHER INFORMATION CONTACT: Gary D. Wahlert by telephone at (202) 606-2920; by fax at (202) 606-0967; or by e-mail at NoFEAR@opm.gov.

U.S. Office of Personnel Management.
Kay Coles James,
Director.

[FR Doc. 04-7197 Filed 3-26-04; 1:50 pm]

BILLING CODE 6325-48-P